FEDERAL TRADE COMMISSION

16 CFR Part 305

RIN 3084-AB03

Energy Labeling Rule

AGENCY: Federal Trade Commission.

ACTION: Final rule; correction.

SUMMARY: The Federal Trade Commission published a final rule on July 23, 2013 revising its Energy Labeling Rule. This document makes a technical correction to the Sample Label 3 in Appendix L of the Rule.

DATES: Effective November 15, 2013.

FOR FURTHER INFORMATION CONTACT: Hampton Newsome, Attorney, Federal Trade Commission, 600 Pennsylvania Avenue NW., Washington, DC 20580, (202) 326-2889.

SUPPLEMENTARY INFORMATION: In FR Doc. 2013-17553, appearing on page 43974 in the Federal Register of Tuesday, July 23, 2013, the following correction is made:

Appendix L to Part 305—[Corrected]

On page 46994, Sample Label 3 is corrected to read as follows:

BILLING CODE 6750-01-P

By direction of the Commission.
Donald S. Clark
Secretary.

[FR Doc. 2013-21601 Filed 9-4-13; 8:45 am]

BILLING CODE 6750-01-C